DEPARTMENT OF THE INTERIOR

National Park Service

Notice of Inventory Completion for Native American Human Remains and Associated Funerary Objects in the Possession of the University of Denver Department of Anthropology and Museum of Anthropology, Denver, CO

AGENCY: National Park Service, Interior.

ACTION: Notice.

Notice is hereby given in accordance with provisions of the Native American Graves Protection and Repatriation Act (NAGPRA), 43 CFR 10.9, of the completion of an inventory of human remains and associated funerary objects in the possession of the University of Denver Department of Anthropology and Museum of Anthropology, Denver, CO.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by the University of Denver Department of Anthropology and Museum of Anthropology professional staff in consultation with representatives of the Ak Chin Indian Community of the Maricopa (Ak Chin) Indian Reservation, Arizona; Cocopah Tribe of Arizona; Colorado River Indian Tribes of the Colorado River Indian Reservation, Arizona and California; Gila River Indian Community of the Gila River Indian Reservation, Arizona; Havasupai Tribe of the Havasupai Reservation, Arizona; Hualapai Indian Tribe of the Hualapai Indian Reservation, Arizona; Hopi Tribe of Arizona; Pascua Yaqui Tribe of Arizona; Pueblo of Laguna, New Mexico; Quechan Tribe of the Fort Yuma Indian Reservation, California & Arizona; Salt River Pima-Maricopa Indian Community of the Salt River Reservation, Arizona; Tohono O’odham Nation of Arizona; Yavapai-Apache Nation of the Camp Verde Indian Reservation, Arizona; Yavapai-Prescott Tribe of the Yavapai Reservation, Arizona; Zuni Tribe of the Zuni Reservation, New Mexico.

Around 1925, human remains representing one individual were recovered from the Hill Ruin, Maricopa County or Pinal County, AZ, by archeologist Frank Midvale. At an unknown date, the remains were transferred to Fallis F. Rees, who donated them to the University of Denver Department of Anthropology and Museum of Anthropology in 1967. No known individual was identified. The 311 associated funerary objects are 1 Sacaton Red-on-Buff bowl, 1 Sacaton Red-on-Buff bowl fragment, 284 Sacaton phase and Santa Cruz phase projectile points, and 25 shell beads.

The burial is a cremation. The Hill Ruin is located 10 miles southwest of Phoenix, AZ, and has been identified as a Hohokam settlement based on the artifacts. The funerary objects can be dated to the Santa Cruz phase (A.D. 800-1000) and the Sacaton phase (A.D. 1000-1200) of the Hohokam sequence.

At an unknown date, human remains representing a minimum of one individual were recovered from an unknown site in the Gila Plain, Maricopa County or Pinal County, AZ, by an unknown person. The remains were cremated and are in fragmentary condition, which makes an accurate determination of the number of individuals impossible. At an unknown date, the remains came into the possession of Fallis F. Rees, who donated the remains to the University of Denver Department of Anthropology and Museum of Anthropology in 1967. No known individual was identified. The 209 associated funerary objects are 1 plainware “cremation” bowl, 1 “cremation” olla, 2 buff ceramic rim sherds, 1 piece of cut and decorated mica, 1 shell fragment, 1 possible shell bracelet, and 202 nonhuman bone fragments, some of which may be bird bones.

Indian tribes occupying the Gila Plain have been identified as culturally affiliated with the Hohokam. Continuity of mortuary practices, ethnographic materials, and technology indicate an affiliation between ancient Hohokam settlements and present-day O’odham (Piman), Pee Posh (Maricopa), and Puebloan cultures. The Hopi Tribe of Arizona and the Pueblo of Zuni provided written testimony affirming cultural affiliation with Hohokam. Archeological and ethnohistorical evidence also were used to determine cultural affiliation.

Hohokam culture spans approximately 300 B.C.-A.D. 1400 in the semiarid region of what is now central and southern Arizona, largely along the Gila and Salt Rivers. The culture is customarily divided into four developmental periods: Pioneer (circa 300 B.C.-A.D. 500), Colonial (A.D. 500-900), Sedentary (A.D. 900-1100), and Classic (A.D. 1100-1400).

During the Pioneer period, the Hohokam people lived in villages composed of widely scattered, individually built structures of wood, brush, and clay, each built over a shallow pit. They depended on the cultivation of corn (maize), supplemented by the gathering of wild beans and fruits and some hunting. Although floodwater irrigation may have been practiced, it was during this period that the first irrigation canal was built, a 3-mile-long channel in the Gila River valley that directed river water to the fields. Eventually, the Hohokam people developed complex canal networks. During this early period they also developed several varieties of pottery.

Based on the above-mentioned information, officials of the University of Denver Department of Anthropology and Museum of Anthropology have determined that, pursuant to 43 CFR 10.2 (d)(1), the human remains listed above represent the physical remains of a minimum of two individuals of Native American ancestry. Officials of the University of Denver Department of Anthropology and Museum of Anthropology also have determined that, pursuant to 43 CFR 10.2 (d)(2), the 502 objects listed above are reasonably believed to have been placed with or near individual human remains at the time of death or later as part of the death rite or ceremony. Lastly, officials of the University of Denver Department of Anthropology and Museum of Anthropology have determined that, pursuant to 43 CFR 10.2 (e), there is a relationship of shared group identity that can be reasonably traced between these Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O’odham Nation of Arizona; and Zuni Tribe of the Zuni Reservation, New Mexico.

This notice has been sent to officials of the Ak Chin Indian Community of the Maricopa (Ak Chin) Indian Reservation, Arizona; Cocopah Tribe of Arizona; Colorado River Indian Tribes of the Colorado River Indian Reservation, Arizona and California; Gila River Indian Community of the Gila River Indian Reservation, Arizona; Havasupai Tribe of the Havasupai Reservation, Arizona; Hualapai Indian Tribe of the Hualapai Indian Reservation, Arizona; Hopi Tribe of Arizona; Pascua Yaqui Tribe of Arizona; Pueblo of Laguna, New Mexico; Quechan Tribe of the Fort Yuma Indian Reservation, California & Arizona; Salt River Pima-Maricopa Indian Community of the Salt River Reservation, Arizona; Tohono O’odham Nation of Arizona; Yavapai-Apache Nation of the Camp Verde Indian Reservation, Arizona; Yavapai-Prescott Tribe of the Yavapai Reservation, Arizona; and Zuni Tribe of the Zuni Reservation, New Mexico. Representatives of any other Indian tribe that believes itself to be culturally affiliated with these human remains and associated funerary objects should contact Jan I. Bernstein, Collections Manager and NAGPRA Coordinator, University of Denver Department of Anthropology and Museum of Anthropology, 2000 Asbury, Sturm Hall S-146, Denver, CO 80208-2406, e-mail jbernste@du.edu, telephone (303) 871-2543, before December 5, 2001. Repatriation of the human remains and associated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O’odham Nation of Arizona; and Zuni Tribe of the Zuni Reservation, New Mexico may begin after that date if no additional claimants come forward.

Dated: August 31, 2001.
John Robbins,
Assistant Director, Cultural Resources Stewardship and Partnerships.

[FR Doc. 01-27703 Filed 11-2-01; 8:45 am]

BILLING CODE 4310-70-S